DEPARTMENT OF ENERGY

Federal Energy Regulatory Commission

Combined Notice of Filings

Take notice that the Commission has received the following Natural Gas Pipeline Rate and Refund Report filings:

Filings Instituting Proceedings

Docket Numbers: RP25-1037-000.

Applicants: Golden Pass Pipeline LLC.

Description: 4(d) Rate Filing: Out-of-Cycle Retainage Filing GT&C Section 6.11—Effective Sept. 1, 2025 to be effective 9/1/2025.

Filed Date: 7/31/25.

Accession Number: 20250731-5102.

Comment Date: 5 p.m. ET 8/12/25.

Docket Numbers: RP25-1038-000.

Applicants: Mountain West Overthrust Pipeline, LLC.

Description: 4(d) Rate Filing: Revisions to Sec. 33—Fuel Gas Reimbursement and Tracking to be effective 9/1/2025.

Filed Date: 7/31/25.

Accession Number: 20250731-5109.

Comment Date: 5 p.m. ET 8/12/25.

Docket Numbers: RP25-1039-000.

Applicants: Stingray Pipeline Company, L.L.C.

Description: 4(d) Rate Filing: Housekeeping Filing to be effective 9/1/2025.

Filed Date: 7/31/25.

Accession Number: 20250731-5112.

Comment Date: 5 p.m. ET 8/12/25.

Docket Numbers: RP25-1040-000.

Applicants: Wyoming Interstate Company, L.L.C.

Description: 4(d) Rate Filing: Fuel_LU Quarterly Update Filing Eff September 2025 to be effective 9/1/2025.

Filed Date: 7/31/25.

Accession Number: 20250731-5141.

Comment Date: 5 p.m. ET 8/12/25.

Docket Numbers: RP25-1041-000.

Applicants: Texas Eastern Transmission, LP.

Description: 4(d) Rate Filing: Negotiated Rates—Con Ed 910950 Releases eff 8-1-2025 to be effective 8/1/2025.

Filed Date: 7/31/25.

Accession Number: 20250731-5154.

Comment Date: 5 p.m. ET 8/12/25.

Docket Numbers: RP25-1042-000.

Applicants: MountainWest Overthrust Pipeline, LLC.

Description: Annual Fuel Gas Reimbursement Report of MountainWest Overthrust Pipeline, LLC Company.

Filed Date: 7/31/25.

Accession Number: 20250731-5173.

Comment Date: 5 p.m. ET 8/12/25.

Docket Numbers: RP25-1043-000.

Applicants: El Paso Natural Gas Company, L.L.C.

Description: 4(d) Rate Filing: Negotiated Rate Agreements Update (Pioneer Aug-Oct 2025) to be effective 8/1/2025.

Filed Date: 7/31/25.

Accession Number: 20250731-5198.

Comment Date: 5 p.m. ET 8/12/25.

Docket Numbers: RP25-1044-000.

Applicants: Equitrans, L.P.

Description: 4(d) Rate Filing: Assignment of Olympus Energy to EQT Energy to be effective 8/1/2025.

Filed Date: 7/31/25.

Accession Number: 20250731-5200.

Comment Date: 5 p.m. ET 8/12/25.

Docket Numbers: RP25-1045-000.

Applicants: El Paso Natural Gas Company, L.L.C.

Description: 4(d) Rate Filing: Negotiated Rate Agreement Update (SoCal Aug-Oct 2025) to be effective 8/1/2025.

Filed Date: 7/31/25.

Accession Number: 20250731-5215.

Comment Date: 5 p.m. ET 8/12/25.

Docket Numbers: RP25-1046-000.

Applicants: Equitrans, L.P.

Description: 4(d) Rate Filing: Negotiated Rate Capacity Release Agreements—8/1/2025 to be effective 8/1/2025.

Filed Date: 8/1/25.

Accession Number: 20250801-5006.

Comment Date: 5 p.m. ET 8/13/25.

Docket Numbers: RP25-1047-000.

Applicants: Equitrans, L.P.

Description: 4(d) Rate Filing: August 2025 Clean Up Filing to be effective 9/1/2025.

Filed Date: 8/1/25.

Accession Number: 20250801-5014.

Comment Date: 5 p.m. ET 8/13/25.

Docket Numbers: RP25-1048-000.

Applicants: Equitrans, L.P.

Description: 4(d) Rate Filing: SWN Energy Name Change to Expand Energy to be effective 8/1/2025.

Filed Date: 8/1/25.

Accession Number: 20250801-5026.

Comment Date: 5 p.m. ET 8/13/25.

Docket Numbers: RP25-1049-000.

Applicants: Rager Mountain Storage Company LLC.

Description: 4(d) Rate Filing: August 2025 Clean Up Filing to be effective 9/1/2025.

Filed Date: 8/1/25.

Accession Number: 20250801-5027.

Comment Date: 5 p.m. ET 8/13/25.

Docket Numbers: RP25-1050-000.

Applicants: Mountain Valley Pipeline, LLC.

Description: 4(d) Rate Filing: August 2025 Clean Up Filing to be effective 9/1/2025.

Filed Date: 8/1/25.

Accession Number: 20250801-5028.

Comment Date: 5 p.m. ET 8/13/25.

Docket Numbers: RP25-1051-000.

Applicants: Mountain Valley Pipeline, LLC.

Description: 4(d) Rate Filing: Negotiated Rate Capacity Release Agreements—8/1/2025 to be effective 8/1/2025.

Filed Date: 8/1/25.

Accession Number: 20250801-5034.

Comment Date: 5 p.m. ET 8/13/25.

Docket Numbers: RP25-1052-000.

Applicants: Columbia Gas Transmission, LLC.

Description: 4(d) Rate Filing: TCO Neg Rate Agmts Eff. 8.1.25 to be effective 8/1/2025.

Filed Date: 8/1/25.

Accession Number: 20250801-5037.

Comment Date: 5 p.m. ET 8/13/25.

Docket Numbers: RP25-1053-000.

Applicants: Scout V. Hugoton Gathering, LP.

Description: 4(d) Rate Filing: Annual Filing of Fuel Retention Percentages to be effective 9/1/2025.

Filed Date: 8/1/25.

Accession Number: 20250801-5041.

Comment Date: 5 p.m. ET 8/13/25.

Docket Numbers: RP25-1054-000.

Applicants: Rover Pipeline LLC.

Description: 4(d) Rate Filing: Summary of Negotiated Rate Capacity Release Agreements 8-1-2025 to be effective 8/1/2025.

Filed Date: 8/1/25.

Accession Number: 20250801-5044.

Comment Date: 5 p.m. ET 8/13/25.

Docket Numbers: RP25-1055-000.

Applicants: Texas Eastern Transmission, LP.

Description: 4(d) Rate Filing: Non-conforming Agreement—Glencore 912017 eff 8-1-25 to be effective 8/1/2025.

Filed Date: 8/1/25.

Accession Number: 20250801-5073.

Comment Date: 5 p.m. ET 8/13/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: August 1, 2025.
Debbie-Anne A. Reese,
Secretary.

[FR Doc. 2025-14915 Filed 8-5-25; 8:45 am]

BILLING CODE 6717-01-P